DEPARTMENT OF THE TREASURY

Office of the Comptroller of the Currency

Agency Information Collection Activities; Information Collection Revision; Submission for OMB Review; Bank Secrecy Act/Money Laundering Risk Assessment

AGENCY: Office of the Comptroller of the Currency (OCC), Treasury.

ACTION: Notice and request for comment.

SUMMARY: The OCC, as part of its continuing effort to reduce paperwork and respondent burden, invites comment on a continuing information collection, as required by the Paperwork Reduction Act of 1995 (PRA). In accordance with the requirements of the PRA, the OCC may not conduct or sponsor, and the respondent is not required to respond to, an information collection unless it displays a currently valid Office of Management and Budget (OMB) control number. The OCC is soliciting comment concerning a revision to its information collection titled, “Bank Secrecy Act/Money Laundering Risk Assessment,” also known as the Money Laundering Risk (MLR) System. The OCC also is giving notice that it has sent the collection to OMB for review.

DATES: Comments must be received by November 3, 2025.

ADDRESSES: Commenters are encouraged to submit comments by email, if possible. You may submit comments by any of the following methods:

• Email: prainfo@occ.treas.gov.

• Mail: Chief Counsel's Office, Attention: Comment Processing, Office of the Comptroller of the Currency, Attention: 1557-0231, 400 7th Street SW, Suite 3E-218, Washington, DC 20219.

• Hand Delivery/Courier: 400 7th Street SW, Suite 3E-218, Washington, DC 20219.

• Fax: (571) 293-4835.

Instructions: You must include “OCC” as the agency name and “1557-0231” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. You can find this information collection by selecting “Currently under 30-day Review—Open for Public Comments” or by using the search function.

You may review comments and other related materials that pertain to this information collection following the close of the 30-day comment period for this notice by the method set forth in the next bullet.

• Viewing Comments Electronically: Go to www.reginfo.gov. Hover over the “Information Collection Review” tab and click on “Information Collection Review” from the drop-down menu. From the “Currently under Review” drop-down menu, select “Department of Treasury” and then click “submit.” This information collection can be located by searching OMB control number “1557-0231” or “Bank Secrecy Act/Money Laundering Risk Assessment.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, Clearance Officer, (202) 649-5490, Chief Counsel's Office, Office of the Comptroller of the Currency, 400 7th Street, SW, Washington, DC 20219. If you are deaf, hard of hearing, or have a speech disability, please dial 7-1-1 to access telecommunications relay services.

SUPPLEMENTARY INFORMATION: Under the PRA (44 U.S.C. 3501 et seq.), Federal agencies must obtain approval from the OMB for each collection of information that they conduct or sponsor. “Collection of information” is defined in 44 U.S.C. 3502(3) and 5 CFR 1320.3(c) to include agency requests or requirements that members of the public submit reports, keep records, or provide information to a third party. The OCC asks the OMB to extend its approval of the collection in this notice.

Title: Bank Secrecy Act/Money Laundering Risk Assessment.

OMB Control No.: 1557-0231.

Type of Review: Regular.

Affected Public: Businesses or other for-profit.

Description: The MLR System enhances the ability of examiners and bank management to identify and evaluate Bank Secrecy Act/Money Laundering and Office of Foreign Asset Control (OFAC) sanctions risks associated with banks' products, services, customers, and locations. As new products and services are introduced, existing products and services change, and banks expand through mergers and acquisitions, banks' evaluation of money laundering and terrorist financing risks should evolve as well. Consequently, the MLR risk assessment is an important tool for the OCC's Bank Secrecy Act/Anti-Money Laundering and OFAC supervision activities because it allows the agency to better identify those institutions, and areas within institutions, that pose heightened risk and allocate examination resources accordingly. This risk assessment is critical for protecting U.S. financial institutions of all sizes from potential abuse from money laundering and terrorist financing. An appropriate risk assessment allows applicable control to be effectively implemented for the lines of business, products, or entities that would elevate Bank Secrecy Act/Money Laundering and OFAC compliance risks.

The OCC will collect MLR information for community banks and trust banks supervised by the OCC. The OCC's annual Risk Summary Form (RSF) is fully automated making data entry quick and efficient and providing an electronic record for all parties. For 2025, the RSF will include three significant changes to the products, services, and customers (PSCs) collected:

1. The addition of one new PSC: bank-fintech partnerships.

2. The deletion of one existing PSC: payable through accounts.

3. The consolidation of fourteen existing PSCs into the following seven: Payable Upon Proper Identification (PUPID) wire transfers (domestic and international), foreign/international remote deposit capture, prepaid card program managers and providers, reloadable prepaid cards and card programs, non-reloadable prepaid cards and card programs, prepaid card programs—bank sponsored, and prepaid cardholders.

The net reduction of seven PSCs decreases the number of data collection points from 71 to 68 as shown in the table below (* PSC changes are denoted in bold):

No. | Existing PSCs | No. | New PSCs
1 | Cash Transactions | 1 | Convenience Stores
2 | Marijuana Related Businesses | 2 | Liquor Stores
3 | ATM Operators | 3 | Independent ATM Owners/Operators
4 | Crypto-Assets Custody | 4 | Domestic Charitable Organizations
5 | Stablecoin Issuance | 5 | Jewelry, Gem & Precious Metal Dealers
6 | Stablecoin Payments | 6 | Casinos
7 | Convenience Stores | 7 | Car Dealers
8 | Liquor Stores | 8 | Domestic Private Banking
9 | Domestic Charitable Organizations | 9 | Domestic Commercial Letters of Credit
10 | Jewelry, Gem and Precious Metals Dealers | 10 | Stand-by Letters of Credit
11 | Casinos | 11 | Marijuana Related Businesses
12 | Car Dealers | 12 | Customers/Accounts opened through the Internet, Mail, Wire or Phone (non-branch)
13 | Domestic Private Banking | 13 | Domestic Deposit Brokers
14 | Domestic Commercial Letters of Credit | 14 | Travel Agencies
15 | Stand-by Letters of Credit | 15 | Broker Dealers
16 | Customers/Accounts opened through the Internet, Mail, Wire or Phone (non-branch) | 16 | Telemarketers
17 | Domestic Deposit Brokers | 17 | Remotely Created Check Customers
18 | Travel Agencies | 18 | Domestic Remote Deposit Capture Customers
19 | Broker Dealers | 19 | Third Party Senders
20 | Telemarketers | 20 | Cash Transactions
21 | Remotely Created Check Customers | 21 | Issuance of Traveler's Checks, Official Bank Checks & Money Orders
22 | Domestic Remote Deposit Capture Customers | 22 | Domestic Wire Transfers
23 | Third Party Senders | 23 | PUPID Wire Transfers (Domestic and International)
24 | Issuance of Traveler's Checks, Official Bank Checks & Money Orders | 24 | ACH
25 | Domestic Wire Transfers | 25 | Remotely Created Checks
26 | Domestic PUPID Wire Transfers | 26 | Domestic Remote Deposit Capture
27 | ACH | 27 | Non-Resident Alien Accounts
28 | Remotely Created Checks | 28 | Politically Exposed Persons
29 | Domestic Remote Deposit Capture | 29 | Foreign Off-Shore Corporations
30 | Non-Resident Alien Accounts | 30 | Foreign Deposit Brokers
31 | Politically Exposed Persons | 31 | Foreign Charitable Organizations
32 | Foreign Off-Shore Corporations | 32 | Import/Export
33 | Foreign Deposit Brokers | 33 | Foreign/International Remote Deposit Capture
34 | Foreign Charitable Organizations | 34 | Foreign Correspondent Accounts
35 | Import/Export | 35 | Pouch Services
36 | Foreign Remote Deposit Capture Customers | 36 | Foreign Bank Affiliate (e.g., Parallel Banks)
37 | Foreign Correspondent Accounts | 37 | International Department
38 | Payable Through Accounts | 38 | International Private Banking
39 | Pouch Services | 39 | Embassy & Consulate Banking
40 | Foreign Bank Affiliate | 40 | International Commercial Letters of Credit
41 | International Department | 41 | International Bank Drafts
42 | International Private Banking | 42 | International Wire Transfers
43 | Embassy & Consulate Banking | 43 | Remittance Products
44 | International Commercial Letters of Credit | 44 | Cross-Border ACH
45 | International Bank Drafts | 45 | Domestic Casas de Cambio/Currency Exchange
46 | International Wire Transfers | 46 | Foreign Casas de Cambio/Currency Exchange
47 | International PUPID Wire Transfers | 47 | Money Transmitters
48 | Remittance Products | 48 | Check Cashers
49 | Cross-Border ACH | 49 | Issuers or Sellers of Traveler's Checks or Money Orders
50 | International Remote Deposit Capture | 50 | Prepaid Card Providers and Managers
51 | Domestic Casas de Cambio/Currency Exchange | 51 | Sellers of Prepaid Access
52 | Foreign Casas de Cambio/Currency Exchange | 52 | Bank-Fintech Partnerships
53 | Money Transmitters | 53 | Reloadable Prepaid Cards and Card Programs
54 | Check Cashers | 54 | Non-Reloadable Prepaid Cards and Card Programs
55 | Issuers or Sellers of Traveler Checks or Money Orders | 55 | Prepaid Card Programs—Bank Sponsored (Reloadable and Non-Reloadable)
56 | Providers of Prepaid Access | 56 | Prepaid Cardholders (Reloadable and Non-Reloadable)
57 | Sellers of Prepaid Access | 57 | Domestic Charitable Trusts & Foundations
58 | Prepaid Cards | 58 | Foreign Charitable Trusts & Foundations
59 | Prepaid Card Programs—Third Party Sponsored | 59 | Custodial Accounts
60 | Prepaid Card Programs—Bank Sponsored | 60 | Investment Advisory Accounts
61 | Prepaid Cardholders | 61 | Revocable Trusts
62 | Prepaid Card Program Managers | 62 | Foreign Grantor or Beneficiaries
63 | Domestic Charitable Trusts & Foundations | 63 | Loans to Closely Held Corporations
64 | Foreign Charitable Trusts & Foundations | 64 | Brokerage Department/Operations
65 | Custodial Accounts | 65 | Investment Advisory/Management
66 | Investment Advisory Accounts | 66 | Crypto-Assets Custody
67 | Revocable Trusts | 67 | Stablecoin Issuance
68 | Foreign Grantor or Beneficiaries | 68 | Stablecoin Payments
69 | Loans to Closely Held Corporations
70 | Brokerage Department/Operations
71 | Investment Advisory/Management

The OCC estimates the burden of this collection of information as follows:

Estimated Burden

Community bank population:

Estimated Number of Respondents: 609.

Estimated Number of Responses: 609.

Estimated Frequency of Response: Annually.

Estimated Total Annual Burden: 3,350 hours.

Comments: On June 24, 2025, the OCC published a 60-day notice for this information collection. No comments were received. Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Sarah Turney,
Assistant Director, Office of the Comptroller of the Currency.

[FR Doc. 2025-19293 Filed 10-1-25; 8:45 am]

BILLING CODE P